DEPARTMENT OF HEALTH AND HUMAN SERVICES

Administration for Children and Families

Proposed Information Collection Activity; Sponsor Review Procedures for Unaccompanied Alien Children (OMB #0970-0278)

AGENCY: Office of Refugee Resettlement; Administration for Children and Families; Department of Health and Human Services.

ACTION: Request for public comment.

SUMMARY: This information collection consists of several instruments that allow the Unaccompanied Alien Children (UAC) Program to assess the ability of potential sponsors to provide for the physical and mental well-being of the UAC and whether the UAC will be safe in the custody of the potential sponsor. The Office of Refugee Resettlement (ORR), Administration for Children and Families (ACF), U.S. Department of Health and Human Services (HHS), is inviting public comments on proposed revisions to the Sponsor Verification Application (formerly the Family Reunification Application); and the Sponsor Care Agreement. Revisions to the Sponsor Care Agreement change the categorization from supplementary material to an information collection and associated burden has been included in this update.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION:

Description

1. Sponsor Verification Application (Form SVP-3/3s): ORR is proposing several major revisions to the Sponsor Verification Application in order to collect more detailed information that will allow for a more robust assessment of sponsor suitability. ORR also removed the section that collected information on the individual identified to care for the UAC should the potential sponsor need to leave the country. This section was removed because it will be obtained as part of the sponsor care plan and not as part of the application process. Additionally, the application establishes a deadline of 45 calendar days for potential sponsors to submit the instruments in this collection, as well as supporting documents, imposed at the case manager's discretion. Allowing the case manager to set a firm deadline not only assists ORR in meeting its statutory requirement to release UAC from its custody without unnecessary delay, but also provides the sponsor and ORR with an official date of denial as opposed to leaving cases on an open ended “pending” status. Finally, ORR added an option for potential sponsors to voluntarily submit to a DNA test to prove that they are biologically related to the child in support of their application. DNA results can be used to prove a biological relationship exists in lieu of supporting paperwork (such as birth certificates) or where such paperwork is difficult or impossible to obtain and/or authenticate in a timely manner. ORR will pay for the cost of the DNA test. In some instances where ORR has serious concerns about fraud regarding the biological relationship of the child and the proposed sponsor or other individual in the sponsor's household, the agency may require an ORR-paid DNA test, before making a release decision.

2. Sponsor Care Agreement (Form SVP-4/4s): ORR is proposing to add an additional provision to the Sponsor Care Agreement requiring sponsors to enroll in post-release services (PRS) as a condition of release. PRS caseworkers will make initial phone contact with the released child within two days of release and an in-person home visit within 30 days of release. Subsequently, PRS caseworkers will contact both the released child and sponsor via phone at least once a month; and make additional in-home visits at least every 90 days. The PRS caseworker has discretion to decide how long phone contact and in-home check-ins need to continue. This additional provision will assist in ensuring that released UACs are thriving and will provide an opportunity for the UAC to express any safety or well-being concerns. It also assists in ensuring that sponsors are acutely aware of the responsibilities of sponsorship including ensuring that UACs attend immigration proceedings as well as continuing to meet educational and medical requirements as appropriate.

Respondents: Potential sponsors for UAC.

Annual Burden Estimates:

Annual Burden for Respondents
Information collection title | Annual number of respondents | Annual number of responses per respondent | Average burden hours per response | Annual total burden hours
Authorization for Release of Information (Form SVP-2/2s) | 38,310 | 1 | 1.00 | 38,310
Sponsor Verification Application (Form SVP-3/3s) | 57,200 | 1 | 10.00 | 588,779
Sponsor Verification Application (Form SVP-3/3s)—Applicants choosing to submit to an ORR-paid DNA test | 16,779 | 1 | 1.00
Sponsor Care Agreement (SVP-4/4s) All UAC check-in | 57,200 | 1 | 3.75 | 214,500
Fingerprinting Instructions (SVP-7/7s) | 38,310 | 1 | 3.00 | 114,930
Letter of Designation for Care of a Minor (Form SVP-9/9s) | 17,160 | 1 | 1.50 | 25,740
Estimated Annual Burden Hours Total |  |  |  | 999,038

Annual Burden for Record Keepers
Information collection title | Annual number of record keepers | Annual number of responses per record keeper | Average burden hours per response | Annual total burden hours
Authorization for Release of Information (Form SVP-2/2s) | 216 | 177 | 1.00 | 38,232
Sponsor Verification Application (Form SVP-3/3s) | 216 | 265 | 6.00 | 379,080
Sponsor Verification Application (Form SVP-3/3s)—Cases requiring a Financial Care Plan | 216 | 87 | 1.00
Sponsor Verification Application (Form SVP-3/3s)—Applicants choosing to submit to an ORR-paid DNA test | 216 | 78 | 1.00
Sponsor Care Agreement (SVP-4/4s) All UAC check-in | 216 | 265 | 0.75 | 42,930
Sponsor Care Agreement (SVP-4/4s) All UAC check-in | 11 | 5,200 | 3.00 | 171,600
Fingerprinting Instructions (SVP-7/7s) | 216 | 177 | 1.00 | 38,232
Letter of Designation for Care of a Minor (Form SVP-9/9s) | 216 | 79 | 0.50 | 8,532
Estimated Annual Burden Hours Total |  |  |  | 714,246

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279; 8 U.S.C. 1232; Flores v. Reno Settlement Agreement, No. CV85-4544-RJK (C.D. Cal. 1996).

Mary B. Jones,
ACF/OPRE Certifying Officer.

[FR Doc. 2020-29117 Filed 1-4-21; 8:45 am]

BILLING CODE 4184-45-P